SECURITIES AND EXCHANGE COMMISSION

[Release No. IC-28084]

Notice of Applications for Deregistration Under Section 8(f) of the Investment Company Act of 1940

December 27, 2007.

The following is a notice of applications for deregistration under section 8(f) of the Investment Company Act of 1940 for the month of December, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on January 22, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Franklin Federal Money Fund [File No. 811-3052]

Summary: Applicant, a feeder fund in a master/feeder structure, seeks an order declaring that it has ceased to be an investment company. On August 31, 2006, applicant transferred its assets to Franklin Money Fund, based on net asset value. Expenses of $175,850 incurred in connection with the reorganization were paid by applicant, the acquiring fund and Franklin Advisers, Inc., the investment adviser of the acquiring fund.

Filing Dates: The application was filed on November 9, 2007, and amended on December 18, 2007.

Applicant's Address: One Franklin Parkway, San Mateo, CA 94403-1906.

Columbus Funds, Inc. [File No. 811-21463]

Summary: Applicant seeks an order declaring that it has ceased to be an investment company. On August 3, 2007, applicant transferred its assets to Frontegra Funds, Inc., based on net asset value. Expenses of $110,500 incurred in connection with the reorganization were paid by Reams Asset Management Company, LLC, applicant's investment adviser, and Frontegra Asset Management, Inc., the acquiring fund's investment adviser.

Filing Dates: The application was filed on October 10, 2007, and amended on December 14, 2007.

Applicant's Address: 227 Washington St., Columbus, IN 47202.

Granum Series Trust [File No. 811-8029]

Summary: Applicant seeks an order declaring that it has ceased to be an investment company. On November 1, 2007, applicant made a liquidating distribution to its shareholders, based on net asset value. Expenses of $292,343 incurred in connection with the liquidation will be paid by applicant from assets placed in an escrow account.

Filing Date: The application was filed on November 13, 2007.

Applicant's Address: c/o Granum Capital Management, L.L.C., 126 East 56th St., 25th Floor, New York, NY 10022.

CAMCO Investors Fund [File No. 811-8465]

Summary: Applicant seeks an order declaring that it has ceased to be an investment company. On February 8, 2007, applicant transferred its assets to CAMCO Investors Trust, based on net asset value. Expenses of $30,050 incurred in connection with the reorganization were paid by applicant and Cornerstone Asset Management Inc., applicant's investment adviser. A capital stock tax in the amount of $69 payable to the Pennsylvania Department of Revenue will be paid by the acquiring fund.

Filing Date: The application was filed on November 13, 2007.

Applicant's Address: 30 East Main St., Berryville, VA 22611.

FTI Funds [File No. 811-7369]

Summary: Applicant seeks an order declaring that it has ceased to be an investment company. On July 24, 2003, applicant transferred its assets to corresponding series of Franklin Global Trust, based on net asset value. Expenses of $43,619 incurred in connection with the reorganization were paid by Fiduciary International, Inc., applicant's investment adviser.

Filing Date: The application was filed on December 4, 2007.

Applicant's Address: One Franklin Parkway, San Mateo, CA 94403-1906.

Prairie Fund [File No. 811-9931]

Summary: Applicant seeks an order declaring that it has ceased to be an investment company. On September 19, 2007, applicant made a liquidating distribution to its shareholders, based on net asset value. Expenses of $16,059 incurred in connection with the liquidation will be paid by applicant and Zuckerman Management Associates, Inc., applicant's investment adviser and sole remaining shareholder.

Filing Dates: The application was filed on October 26, 2007, and amended on November 30, 2007.

Applicant's Address: 801 41st St., Suite 210, Miami, FL 33140.

MetLife Investment Funds, Inc. [File No. 811-7450]

Summary: Applicant seeks an order declaring that it has ceased to be an investment company. On August 16, 2007 the Board of Directors voted to liquidate the Applicant, and on November 9, 2007, the Applicant distributed all of its shares at net asset value to its shareholders. Expenses of $35,900 incurred in connection with the liquidation were paid for by the Applicant.

Filing Date: The application was filed on December 11, 2007.

Applicant's Address: 400 Atrium Drive, Somerset, NJ 08873-4172.

For the Commission, by the Division of Investment Management, pursuant to delegated authority.
Nancy M. Morris,
Secretary.

[FR Doc. E7-25524 Filed 1-2-08; 8:45 am]

BILLING CODE 8011-01-P